DEPARTMENT OF ENERGY

Federal Energy Regulatory Commission

[Docket No. CP08-422-000]

Gulfstream Natural Gas System, L.L.C.; Notice of Request Under Blanket Authorization

June 20, 2008.

Take notice that on June 13, 2008, Gulfstream Natural Gas System, L.L.C. (Gulfstream), 5400 Westheimer Court, Houston, Texas 77251-1642, filed in Docket No. CP08-422-000, an application pursuant to sections 157.205, 157.208, and 157.210 of the Commission's Regulations under the Natural Gas Act (NGA) as amended, to construct, install, own, operate, and maintain a compressor station (Station 430) at approximate milepost 520.75 on Gulfstream's existing pipeline system in Highlands County, Florida, under Gulf Stream's blanket certificate issued in Docket No. CP00-8-000,¹ all as more fully set forth in the application which is on file with the Commission and open to the public for inspection.

¹ 94 FERC ¶ 61,185 (2001).

Gulf Stream proposes to construct, install, own, operate, and maintain Station 430, which would consist of one 7,700 HP Solar Taurus 60 gas turbine compression unit and related facilities, including piping, suction and discharge headers, a scrubber, a control building, communications equipment, an electric transformer, two skid-mounted air compressors, and other facilities, all at an estimated cost of $19,890,000. Gulf Stream states that it would finance the Station 430 project with funds on hand and/or by borrowing under short-term financing arrangements. Gulf Stream also states that the proposed Station 430 project facilities would allow Gulf Stream to maintain deliveries at higher pressures on the downstream portion of its pipeline system.

Any questions concerning this application may be directed to Garth Johnson, General Manager, Certificates and Reporting—Regulatory Affairs, Gulf Stream Natural Gas System, L.L.C., P.O. Box 1642, Houston, Texas 77251-1642, or via telephone at (713) 627-5415, facsimile number (713) 627-5947, or e-mail gjohnson@spectraenergy.com.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Kimberly D. Bose,
Secretary.

[FR Doc. E8-14686 Filed 6-27-08; 8:45 am]

BILLING CODE 6717-01-P